DEPARTMENT OF AGRICULTURE

Forest Service

Southwest Washington Provincial Advisory Committee Meeting Notice

AGENCY: Forest Service, USDA.

ACTION: Notice of meeting.

SUMMARY: The Southwest Washington Provincial Advisory Committee will meet on Wednesday, October 27, 2004, at the Ward Road Fire Hall #88 in Orchards/Vancouver, WA, 6701 NE 147th Ave., Vancouver, WA 98682. The meeting will begin at 9 a.m. and continue until 3 p.m.

The purpose of the meeting is to share information on the following programs: An update on current activity at Mount St. Helens; a Washington State Department Ecology assessment of Gifford Pinchot National Forest stream temperatures; the Western Washington Sustainable Harvest Environmental Impact Statement for State lands; an update on the Forest Service Region 6 invasive species Environmental Impact Statement, and to share information among members.

All Southwest Washington Province Advisory Committee meetings are open to the public. Interested citizens are encouraged to attend. The “open forum” is scheduled to occur at 1 p.m. Interested speakers will need to register prior to the open forum period. The committee welcomes the public's written comments on committee business at any time.

FOR FURTHER INFORMATION CONTACT: Direct questions regarding this meeting to Tom Knappenbeger, Public Affairs Officer, at (360) 891-5005, or write Forest Headquarters Office, Gifford Pinchot National Forest, 10600 NE 51st Circle, Vancouver, WA 98682.

Dated: October 6, 2004.
Claire Lavendel,
Forest Supervisor.

[FR Doc. 04-23021 Filed 10-13-04; 8:45 am]

BILLING CODE 3410-11-M